FEDERAL COMMUNICATIONS COMMISSION

Notice of Public Information Collection(s) Being Submitted to OMB for Review and Approval

September 12, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 19, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0743.

Title: Implementation of the Pay Telephone Reclassification and Compensation Provisions of the Telecommunications Act of 1996, CC Docket No. 96-128.

Form Number: N/A.

Type of Review: Revision of a currently approved collection.

Respondents: Business or other for-profit entities.

Number of Respondents: 3,342.

Estimate Time Per Response: 0.5 to 100 hours.

Frequency of Response: Recordkeeping; On occasion, quarterly, annual, and one-time reporting requirements; Third party disclosure.

Total Annual Burden: 131,077 hours.

Total Annual Costs: None.

Needs and Uses: The FCC's CC Doc. No. 96-128 promulgated rules and requirements implementing Section 276 of the Telecommunications Act of 1996. Among other things, the rules: (1) Establish fair compensation for every completed intrastate and interstate payphone call; (2) discontinue intrastate and interstate carrier access charge payphone service elements and payment, and intrastate and interstate payphone subsidies from basic exchange services; and (3) adopt guidelines for use by the states in establishing public interest payphone in locations where payphones might not otherwise be located. Thus, the requirements in the Report and Order ensure that interexchange carriers, payphone service providers, LECs, and the states comply with their obligations under the Telecommunications Act of 1996, as amended.

OMB Control Number: 3060-0561.

Title: Section 76.913, Assumption of Jurisdiction by the Commission.

Form Number: N/A.

Type of Review: Extension of a currently approved collection.

Respondents: State, Local, or Tribal Government.

Number of Respondents: 50.

Estimate Time Per Response: 8 hours.

Frequency of Response: On occasion reporting requirements.

Total Annual Burden: 400 hours.

Total Annual Costs: None.

Needs and Uses: 47 CFR 76.913 permits a local franchising authority (LFA) that is unable to meet certification standards to petition the Commission to regulate the basic service cable rates of its franchisee. The Commission uses the information collected under this requirement to identify situations where it should exercise jurisdiction over basic service and equipment rates in place of an LFA. Without this information, the basic cable rates of some franchising areas which are not subject to effective competition would remain unregulated in contravention of the goals of the 1992 Cable Act.

OMB Control Number: 3060-0565.

Title: Section 76.944, Commission Review of Franchising Authority Decisions on Rates for Basic Service and Associated Equipment

Form Number: N/A.

Type of Review: Extension of a currently approved collection.

Respondents: Business or other for-profit entities; State, Local, or Tribal Government.

Number of Respondents: 300.

Estimate Time Per Response: 1.0 hours.

Frequency of Response: On occasion reporting requirements.

Total Annual Burden: 300 hours.

Total Annual Costs: None.

Needs and Uses: The Commission uses the information in this collection to ensure that franchising authority decisions regarding cable rates are consistent with the provisions of the Cable Television Consumer Protection and Competition Act of 1992 and the Commission's rules regarding cable rate regulation. The Commission's review of appeals is necessary to ensure uniformity of interpretation of Federal guidelines.

OMB Control Number: 3060-0607.

Title: Section 76.922, Rates for Basic Service Tiers and Cable Programming Tiers.

Form Number: N/A.

Type of Review: Extension of a currently approved collection.

Respondents: Business or other for-profit entities; and State, Local, or Tribal Government.

Number of Respondents: 4,475.

Estimate Time Per Response: 1 to 12 hours.

Frequency of Response: On occasion reporting requirements.

Total Annual Burden: 9,150 hours.

Total Annual Costs: None.

Needs and Uses: 47 CFR 76.922, in relevant part, provides that cable operators may adjust their permissible rates to reflect the rate they would be charging if they had been permitted to include increases in external costs occurring between September 30, 1992, and their initial date of regulation reduced by inflation increases already received with respect to those costs. This section also provides that qualified small systems using the streamlined rate reduction process must notify subscribers, the LFA, and the FCC, and it allows such small systems to increase rates to recover the costs of headend upgrades. The Commission uses the information in this collection to ensure that qualified small systems have additional incentives to add channels and that small systems are able to recover costs for headend upgrades when doing so.

Federal Communications Commission.
Magalie Roman Salas,
Secretary.

[FR Doc. 00-23953 Filed 9-18-00; 8:45 am]

BILLING CODE 6712-01-P